DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development.

FOR FURTHER INFORMATION CONTACT: Licensing information and copies of the U.S. patent application listed below may be obtained by communicating with Sury Vepa, Ph.D., J.D., Senior Licensing and Patenting Manager, National Center for Advancing Translational Sciences, NIH, 9800 Medical Center Drive, Rockville, MD 20850, Phone: 301-827-7181, or email sury.vepa@nih.gov. A signed Confidential Disclosure Agreement will be required to receive copies of unpublished patent applications.

SUPPLEMENTARY INFORMATION: Technology description follows.

Inhibitors of Phosphoinositide 3-Kinase and Histone Deacetylase for Treatment of Cancer

Description of Technology: The invention includes compounds that act as dual inhibitor of phosphoinositide 3-kinase (PI3K) and histone deacetylase (HDAC), including a core containing a quinazoline moiety or a quinazolin-4(3H)-one moiety, a kinase hinge binding moiety, and a histone deacetylase pharmacophore, a pharmaceutically acceptable salt thereof, a prodrug thereof, or solvate thereof. The present invention also provides compounds that are selective inhibitors of histone deacetylase inhibitor that include a core containing a quinazolin-4(3H)-one moiety and a histone deacetylase pharmacophore.

This technology is available for licensing for commercial development in accordance with 35 U.S.C. 209 and 37 CFR part 404, as well as for further development and evaluation under a research collaboration.

Potential Commercial Applications:

• Novel therapeutics for cancers neurodegenerative diseases.

Competitive Advantages:

• Novel dual inhibitor compounds of this invention have a commercial advantage over those currently known because they can act as selective and dual inhibitors of specific isoforms of HDAC (such as HDAC6) and PI3K (such as PI3Kδ) potentially providing better toxicity profile and therefore bigger therapeutic window.

Development Stage:

• Pre-Clinical (compound optimization and in vivo validation).

Inventors:

• Grewal, Gurmit; Thakur, Ashish; Tawa, Gregory James; Ferrer, Marc; and Simeonov, Anton M.

Intellectual Property: 1. INHIBITORS OF PHOSPHOINOSITIDE 3-KINASE AND HISTONE DEACETYLASE FOR TREATMENT OF CANCER, PCT Patent Application NO. PCT/US2018/038507 filed on June 20, 2018 (HHS Ref. No. E-104-2017).

Licensing Contact: Sury Vepa, Ph.D., J.D. Phone: 301-827-7181, or email sury.vepa@nih.gov.

Dated: October 1, 2019.
Lillianne M. Portilla Weingarten,
Technology Development Coordinator, National Center for Advancing Translational Sciences.

[FR Doc. 2019-21965 Filed 10-7-19; 8:45 am]

BILLING CODE 4140-01-P